MERIT SYSTEMS PROTECTION BOARD

Agency Information Collection Activities; Proposed Collection

AGENCY: Merit Systems Protection Board (MSPB).

ACTION: Notice.

SUMMARY: The U.S. Merit Systems Board is requesting approval from the Office of Management and Budget (OMB) to conduct employee surveys for a period of three years from the approval date. Before submitting the Information Collection Request (ICR) to OMB for review and approval, MSPB is soliciting comments on specific aspects of the information collection in accordance with the Paperwork Reduction Act of 1995 (44 U.S.C. 3506(c)(2)(A)).

In this regard, we are soliciting comments on the public reporting burden. The reporting burden for the collection of information on this form is estimated to average 30 minutes per respondent, including time for reviewing instructions and completing the survey. In addition, the MSPB invites comments on (1) whether the proposed collection of information is necessary for the proper performance of MSPB's functions, including whether the information will have practical utility; (2) the accuracy of MSPB's estimate of burden of the proposed collection of information, including the validity of the methodology and assumptions used; (3) ways to enhance the quality, utility, and clarity of the information to be collected; and (4) ways to minimize the burden of the collection of information on respondents, including through the use of automated collection techniques, when appropriate, and other forms of information technology.

DATES: According to the procedures prescribed in 5 CFR 1320.10, MSPB plans to submit an ICR to OMB for review and approval following the 60 day comment period. Comments must be received on or before November 9, 2006.

ADDRESSES: You may submit comments via any of the following methods:

E-mail: mspb.study@mspb.gov. Include “Employee Surveys” in the subject line of the message.

Fax: (202) 653-7211.

Mail: Cynthia Ferentinos, U.S. Merit Systems Protection Board, Room 511, 1615 M St., NW., Washington, DC 20419.

FOR FURTHER INFORMATION CONTACT: For information on the survey questions, contact Cynthia Ferentinos by phone on 202-653-6772, ext. 1334, by FAX on 202-653-7211, or by e-mail at cynthia.ferentinos@mspb.gov. You may contact Ms. Ferentinos V/TDD at 1-800-877-8339.

SUPPLEMENTARY INFORMATION:

Proposed Project

”Career Advancement Survey of Federal Employees”

As part of its purpose, MSPB is responsible for conducting studies of the Federal civil service to ensure that all Federal government agencies follow merit systems practices and avoid prohibited personnel practices. To support this research agenda, MSPB periodically conducts surveys of samples of Federal employees. To obtain insight into the current perspectives, MSPB requests approval to conduct additional surveys over the next three years.

The content of these surveys will focus on the career progression strategies utilized by Federal employees. In particular, we will examine if advancement techniques vary between groups of employees and evaluate the outcomes associated with each approach. We also plan to identify perceptions held by employees regarding discrimination and strategies that may have been used to overcome this potential barrier. In addition to the primary survey which is designed to cover all employees, we may also design a limited number of more narrowly focused surveys, which address issues unique to subpopulations of Federal employees (e.g., people with disabilities).

Burden Statement: The annual public reporting and record keeping burden for this collection of information is estimated to average 0.5 hours per respondent.

Respondents/Affected Entities: Participants are selected via stratified random sampling to facilitate a representative sample of Federal employees.

Estimated Number of Respondents: 46,000.

Frequency of Response: Once.

Estimated Total Annual Hour Burden: 23,000.

Dated: September 11, 2006.
Bentley M. Roberts, Jr.,
Clerk of the Board.

[FR Doc. E6-15025 Filed 9-11-06; 8:45 am]

BILLING CODE 7401-01-P